NUCLEAR REGULATORY COMMISSION

Withdrawal of Regulatory Guide

AGENCY: U.S. Nuclear Regulatory Commission.

ACTION: Withdrawal of Regulatory Guide 3.42.

FOR FURTHER INFORMATION CONTACT: Stephen C. O'Connor, U.S. Nuclear Regulatory Commission, Washington, DC 20555-0001, telephone 301-415-2169, or e-mail SCO@nrc.gov.

SUPPLEMENTARY INFORMATION:

I. Introduction

The U.S. Nuclear Regulatory Commission (NRC) is withdrawing Regulatory Guide 3.42, “Emergency Planning for Fuel Cycle Facilities and Plants Licensed Under 10 CFR Parts 50 and 70,” which was last revised in September 1979. Regulatory Guide 3.42 provides guidance in developing emergency plans for applicants for licenses of fuel cycle facilities under Title 10 of the Code of Federal Regulations (10 CFR) Part 50, “Domestic Licensing of Production and Utilization Facilities,” as well as for applicants for licenses of special nuclear material under 10 CFR Part 70, “Domestic Licensing of Special Nuclear Material.” The NRC is withdrawing Regulatory Guide 3.42 because no fuel cycle facilities are currently licensed under both 10 CFR Part 50 and 10 CFR Part 70. In addition, no fuel cycle facilities have an active license under 10 CFR Part 50. For fuel cycle and materials facilities licensed under 10 CFR Part 70, Regulatory Guide 3.67, “Standard Format and Content for Emergency Plans for Fuel Cycle and Materials Facilities,” issued January 1992, provides adequate guidance for developing emergency plans.

II. Further Information

The withdrawal of Regulatory Guide 3.42 does not, in and of itself, alter any prior or existing licensing commitments based on its use. The guidance provided in this regulatory guide no longer provides useful information. Regulatory guides may be withdrawn when their guidance is superseded by congressional action, the methods or techniques described in the regulatory guide no longer describe a preferred approach, or the regulatory guide does not provide useful information.

Regulatory guides are available for inspection or downloading through the NRC's public Web site under “Regulatory Guides” in the NRC's Electronic Reading Room at http://www.nrc.gov/reading-rm/doc-collections. Regulatory guides are also available for inspection at the NRC's Public Document Room (PDR), Room O-1F21, One White Flint North, 11555 Rockville Pike, Rockville, MD 20852-2738. The PDR mailing address is U.S. NRC PDR, Washington, DC 20555-0001. The PDR staff can be reached by telephone at 301-415-4737 or 800-397-4209, by fax at 301-415-3548, or by e-mail to pdr@nrc.gov.

Regulatory guides are not copyrighted, and NRC approval is not required to reproduce them.

Dated at Rockville, Maryland, this 13th day of June, 2008.
For the Nuclear Regulatory Commission.
Stephen C. O'Connor,
Acting Chief, Regulatory Guide Development Branch, Division of Engineering, Office of Nuclear Regulatory Research.

[FR Doc. E8-13868 Filed 6-18-08; 8:45 am]

BILLING CODE 7590-01-P